DEPARTMENT OF DEFENSE

Department of the Army, Corps of Engineers

Intent to Prepare a Draft Environmental Impact Statement/Environmental Impact Report for the Proposed Ballona Wetlands Restoration Project at Ballona Creek Within the City and County of Los Angeles, California

AGENCY: U.S. Army Corps of Engineers, Department of the Army, DoD.

ACTION: Notice of Intent—Extension of Comment Period for Scoping.

SUMMARY: The U.S. Army Corps of Engineers (Corps) and the California Department of Fish and Game (CDFG) intend to jointly prepare a Draft Environmental Impact Statement/Environmental Impact Report (DEIS/EIR) for the proposed Ballona Wetlands Restoration Project. The proposed project is intended to return the daily ebb and flow of tidal waters, maintain freshwater circulation, and augment the physical and biological functions and services in the project area. Restoring the wetland functions and services would allow native wetland vegetation to be reestablished, providing important habitat for a variety of wildlife species. As a restored site, the Ballona Wetlands would play an important role to provide seasonal habitat for migratory birds. A restored, optimally functioning wetland would also benefit the adjacent marine environment and enhance the quality of tidal waters. The purpose of this notice is to inform the public the comment period for scoping has been extended to October 23, 2012.

DATES: Comment period for scoping has been extended from September 10 to October 23, 2012.

FOR FURTHER INFORMATION CONTACT: Dr. Daniel P. Swenson at (213) 452-3414 (daniel.p.swenson@usace.army.mil), U.S. Army Corps of Engineers, Los Angeles District, P.O. Box 532711, Los Angeles, CA 90053-2325.

Mark D. Cohen,
Deputy Chief, Regulatory Division, Corps of Engineers.

[FR Doc. 2012-21945 Filed 9-5-12; 8:45 am]

BILLING CODE 3720-58-P